FEDERAL COMMUNICATIONS COMMISSION

47 CFR Part 64

[CG Docket Nos. 02-278 and 05-338]

Rules and Regulations Implementing the Telephone Consumer Protection Act of 1991; Junk Fax Prevention Act of 2005

AGENCY: Federal Communications Commission.

ACTION: Final rule.

SUMMARY: This document contains revisions to the final regulations of the Telephone Consumer Protection Act of 1991 (TCPA). The regulations relate to unwanted telephone solicitations pursuant to the TCPA.

DATES: Effective December 14, 2006.

FOR FURTHER INFORMATION CONTACT: Erica McMahon or Lynne Montgomery, Consumer & Governmental Affairs Bureau, (202) 418-2512.

SUPPLEMENTARY INFORMATION: The Commission published a document in the Federal Register on July 25, 2003, 68 FR 44144, which revised the TCPA rules and adopted new regulations to provide consumers with options for avoiding unwanted telephone solicitations. The Commission revises the final regulations to reflect recent updates to other provisions of part 64 relative to the TCPA.

List of Subjects in 47 CFR Part 64

Communications common carriers, Telecommunications, Telephone.

Federal Communications Commission.
Marlene H. Dortch,
Secretary.

For the reasons discussed in the preamble, the Federal Communications Commission amends 47 CFR part 64 as follows:

PART 64—MISCELLANEOUS RULES RELATING TO COMMON CARRIERS

1. The authority citation for part 64 continues to read as follows:

Authority: 47 U.S.C. 154, 254(k) secs. 403(b)(2)(B), (c), Pub. L. 104-104, 110 Stat. 56. Interpret or apply 47 U.S.C. 201, 218, 222, 225, 226, 228, and 254(k) unless otherwise noted.

2. Amend § 64.1200 by revising paragraph (c) introductory text to read as follows:

§ 64.1200 Delivery restrictions.

* * * * *

(c) No person or entity shall initiate any telephone solicitation, as defined in paragraph (f)(12) of this section, to:

* * * * *

3. Amend § 64.1601 by revising paragraph (e) to read as follows:

§ 64.1601 Delivery requirements and privacy restrictions.

* * * * *

(e) Any person or entity that engages in telemarketing, as defined in section 64.1200(f)(10) must transmit caller identification information.

* * * * *

[FR Doc. E6-21308 Filed 12-13-06; 8:45 am]

BILLING CODE 6712-01-P